DEPARTMENT OF THE INTERIOR

Bureau of Land Management

[AKA01300.L14100000.ES0000; AA-092370, and AA-092371]

Notice of Realty Action; Recreation and Public Purposes Act Classification; Tenakee Springs, AK

AGENCY: Bureau of Land Management, Interior.

ACTION: Notice of realty action.

SUMMARY: The Bureau of Land Management (BLM) examined approximately 0.31 acres of public land in Alaska and found it suitable for classification for lease or conveyance to the City of Tenakee Springs under the provisions of the Recreation and Public Purposes (R&PP) Act, as amended, and under Sec. 7 of the Taylor Grazing Act, and Executive Order No. 6910. The City of Tenakee Springs proposes to use the land for a community park and garden, and a community public hot springs bath.

DATES: Submit comments on or before January 17, 2012.

ADDRESSES: Detailed information including, but not limited to, a proposed development plan and documentation relating to compliance with applicable environmental and cultural resource laws, is available for review at the BLM Anchorage Field Office, 4700 BLM Road Anchorage, Alaska 99507-2591.

FOR FURTHER INFORMATION CONTACT: Stephen Fusilier, Lands Branch Manager, (907) 267-1252. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: The following public land identified by the BLM as suitable for classification for lease or conveyance to the City of Tenakee Springs under the provisions of the Recreation and Public Purposes (R&PP) Act, as amended, 43 U.S.C. 869 et seq., and under Sec. 7 of the Taylor Grazing Act, 43 U.S.C. 315(f), and Executive Order No. 6910:

Copper River Meridian

T. 47 S., R. 63 E.,

U.S. Survey 1409

Mineral Springs Reserve 1, Lot 6

Mineral Springs Reserve 3, Lot 1

The area describes contains approximately 0.31 acre

The City of Tenakee Springs has not applied for more than the 6,400-acre limitation for recreation uses in a year.

The City of Tenakee Springs has submitted a statement in compliance with the regulations at 43 CFR 2741.4(b). The City of Tenakee Springs proposes to use the land as a community park and garden, and a community public hot springs bath. Lease or conveyance of the land for recreational or public purposes use is consistent with the March 2008 BLM Ring of Fire Resource Management Plan and is in the public interest. The land is not needed for Federal purposes and is not affected by State of Alaska or local land use plans.

Upon publication of this notice in the Federal Register, the land described herein will be segregated from all other forms of appropriation under the public land laws, including the general mining laws, except for lease or conveyance under the R&PP Act and leasing under the mineral leasing laws.

The lease or conveyance of the land, when issued, will be subject to the following terms, conditions, and reservations:

1. A right-of-way thereon for ditches and canals constructed by the authority of the United States Act of August 30, 1890, 26 Stat. 391 (43 U.S.C. 945);

2. Provisions of the R&PP Act and to all applicable regulations of the Secretary of the Interior;

3. All minerals shall be reserved to the United States, together with the right to prospect for, mine and remove the minerals;

4. All valid existing rights documented on the official public land records at the time of lease or patent issuance;

5. Pursuant to the requirements established by Section 120(h) of the Comprehensive Environmental Response, Compensation and Liability Act, (42 U.S.C. 9620 (h)) (CERCLA), as amended by the Superfund Amendments and Reauthorization Act of 1988, (100 Stat. 1670), notice is hereby given that the above-described land has been examined and no evidence was found to indicate that any hazardous substances had been stored for 1 year or more, nor had any hazardous substances been disposed of or released on the subject property; and

6. The lessee and/or patentee, by accepting the lease and/or patent, covenants and agrees to indemnify, defend, and hold the United States harmless from any costs, damages, claims, causes of action, penalties, fines, liabilities, and judgments of any kind arising from the past, present, or future acts or omissions of the patentee, its employees, agents, contractor, or lessees, or any third party, arising out of, or in connection with, the patentee's use, occupancy or operations on the patented real property. This indemnification and hold harmless agreement includes, but is not limited to, acts and omissions of the patentee and its employees, agents, contractors or lessees, or any third party, arising out of or in connection with the use and/or occupancy of the patented real property that has already resulted or does hereafter result in: (a) Violations of Federal, State and local laws and regulations that are now, or may in the future, become applicable to the real property; (b) Judgments, claims, or demands of any kind assessed against the United States; (c) Costs, expenses, or damages of any kind incurred by the United States; (d) Releases or threatened releases of solid or hazardous waste(s) and/or hazardous substance(s) as defined by Federal or State environmental laws, off, on, into, or under land, property, and other interests of the United States; (e) Activities by which solids or hazardous substances or wastes, as defined by Federal and State environmental laws are generated, released, stored, used, or otherwise disposed of on the patented real property, and any cleanup response, remedial action, or other actions related in any manner to said solid or hazardous substance(s) or waste(s); or (f) Natural resource damages as defined by Federal and State law. This covenant shall be construed as running with the patented real property and may be enforced by the United States in a court of competent jurisdiction.

Classification Comments: Interested persons may submit comments involving the suitability of the land for development of a community park and garden, and a community public hot springs bath. Comments on the classification are restricted to whether the land is physically suited for the proposal, whether the use will maximize the future use or uses of the land, whether the use is consistent with local planning and zoning, or if the use is consistent with State and Federal programs.

Application Comments: Interested persons may submit comments regarding the specific use proposed in the application and plan of development, whether the BLM followed proper administrative procedures in reaching the decision, or any other factor not directly related to the suitability of the lands for a community park and garden, and a community public hot springs bath.

The BLM State Director will review any adverse comments. In the absence of any adverse comments, the classification will become effective on January 30, 2012. The land will not be offered for conveyance until after the classification becomes effective.

Before including your address, phone number, email address, or other personal identifying information in your comment, you should be aware that your entire comment—including your personal identifying information—may be made publicly available at any time. While you can ask us in your comment to withhold your personal identifying information from public review, we cannot guarantee that we will be able to do so.

Authority: 43 CFR 2741.5(h)(3).

Matthew S. Varner,
Acting Field Manager.

[FR Doc. 2011-30724 Filed 11-30-11; 8:45 am]

BILLING CODE 4310-JA-P